DEPARTMENT OF JUSTICE

Antitrust Division

Notice Pursuant to the National Cooperative Research and Production Act of 1993—Institute of Environmental Sciences and Technology

Notice is hereby given that, on September 21, 2004, pursuant to section 6(a) of the National Cooperative Research and Production Act of 1993, 15 U.S.C. 4301 et seq. (“the Act”), Institute of Environmental Sciences and Technology (“IEST”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: Institute of Environmental Sciences and Technology, Rolling Meadows, IL. The nature and scope of IEST's standards development activities are: (1) To develop Recommended Practices for nonmandatory use in the contamination control, design and test, and product reliability industries; and (2) to serve by appointment for the American National Standards Institute (ANSI) as Administrator of the U.S. Technical Advisory Committee to ISO Technical Committee 209 Cleanrooms and Associated Controlled Environments.

Dorothy B. Fountain,
Deputy Director of Operations, Antitrust Division.

[FR Doc. 04-26616 Filed 12-2-04; 8:45 am]

BILLING CODE 4410-11-M